DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. App. 26, the following railroads have petitioned the Federal Railroad Administration (FRA) seeking approval for the discontinuance or modification of the signal system or relief from the requirements of 49 CFR part 236 as detailed below.

[Docket No. FRA-2001-11370]

Applicant: Burlington Northern and Santa Fe Railway, Mr. William G. Peterson, Director Signal Engineering, 4515 Kansas Avenue, Kansas City, Kansas 66106.

Burlington Northern and Santa Fe Railway (BNSF) seeks approval of the proposed removal of Interlocking Signals over Crescent Bridge at Rock Island, Illinois, on the Illinois Division, Barstow Subdivision, LS 7, M.P. 253.89. The proposed changes consist of the following:

1. Remove Interlocking at Crescent Bridge.

The reason given for the proposed changes is that this bridge was acquired by the BNSF when it took over operation of this industry track from the DRI&NW. The bridge is very old and utilizes un-conventional bridge alignment detection circuitry that does not meet current requirements for bridge interlocking signals. BNSF does not believe that the level of train operation justifies the massive capital expenditures required to bring the bridge interlocking equipment to current standards.

Any interested party desiring to protest the granting of an application shall set forth specifically the grounds upon which the protest is made, and contain a concise statement of the interest of the Protestant in the proceeding. The original and two copies of the protest shall be filed with the Associate Administrator for Safety, FRA, 400 Seventh Street, SW, Mail Stop 25, Washington, DC 20590 within 45 calendar days of the date of publication of this notice. Additionally, one copy of the protest shall be furnished to the applicant at the address listed above.

FRA expects to be able to determine these matters without an oral hearing. However, if a specific request for an oral hearing is accompanied by a showing that the party is unable to adequately present his or her position by written statements, an application may be set for public hearing.

Issued in Washington, DC on February 14, 2002.
Grady C. Cothen, Jr.,
Deputy Associate Administrator for Safety Standards and Program Development.

[FR Doc. 02-4193 Filed 2-20-02; 8:45 am]

BILLING CODE 4910-06-P